DEPARTMENT OF COMMERCE

International Trade Administration

Transportation Technologies, Equipment & Systems Trade Mission to Turkey; September 26-30, 2016

AGENCY: International Trade Administration, Department of Commerce.

ACTION: Notice.

SUMMARY: The United States Department of Commerce International Trade Administration's (ITA) U.S. and Foreign Commercial Service (US&FCS) in Turkey is organizing a Transportation Technologies, Equipment & Systems Trade Mission to Turkey on September 26-30, 2016.

The U.S.-Turkey Transportation Industry Trade Mission is intended to include representatives from a variety of U.S. transportation industry hi-tech equipment, systems and technology suppliers and service providers. The mission will introduce these suppliers to Turkish business partners, industry representatives, and to the Turkish municipal/government officials to learn about and benefit from various transportation project opportunities in the country. Participating in an official U.S. industry delegation, rather than traveling to Turkey on their own, will enhance the companies' ability to secure meetings in Ankara, Istanbul, and Izmir. The influence of the transportation sector is expected to increase more in the future, as a large number of transportation related projects, including rail, air, sea, and land, are either already underway or expected to accommodate for an increasingly industrialized country in the years to come. Further in the horizon, due to the increased infrastructural partnership between private and government enterprises, marine and railway freightage will have a big role in cargo moving for combined transportation. The Government of Turkey has committed to new investments in this industry to keep up with future demand which is expected to reach targets in 2023, the centennial of the Turkish Republic. GoT spells out investments totaling almost $250 billion with the distribution as follows: Land transportation: $110 billion; rail: $50; marine: $35; and aviation: $50. The trade mission offers a timely and cost effective way of engaging with key stake holders in the transportation sector which covers a wide range of players from air to sea, land to rail industries. Trade mission participants will have the opportunity to interact extensively with Commercial Service (CS) Turkey specialists as well as USEAC offices to discuss industry developments, opportunities, and sales strategies.

The trade mission will also include a regional program for introductions to private sector and government officials from the partnership posts of Turkey, namely Uzbekistan, Azerbaijan, Turkmenistan and Georgia. The meetings will take place in Istanbul, with the participation of the partnership posts and possibly other countries in the region.

Schedule
Sunday, September 25, 2016 | Mission Welcome and orientation—early evening at the TM hotel in Ankara.
Monday, September 26, 2016 | Country Team Briefing with U.S. Embassy officials.
| Meeting and Briefing with Ministry of Transportation (Each official department will be able to talk about upcoming projects and tenders on presentations).
| State Railway Officials & Projects.
| State Highways Officials and Projects.
| Marine Officials and Projects.
| Airways Officials and Projects.
| Business Matchmaking Meetings with private companies and government officials in Ankara.
| Networking Reception with U.S. and Turkish Government and Private Sector Representatives.
Tuesday, September 27, 2016 | Fly to Izmir.
| Site visits (tunnel/bridge under/over the Izmir Bay).
| 1-1 Business Matchmaking Meetings with private companies and municipal officials in the Aegean region.
Wednesday, September 28, 2016 | Fly to Istanbul.
| Site visits (new metro, 3rd airport, 3rd bridge, Marmaray).
Thursday, September 29, 2016 | Morning: 1-1 Business Matchmaking Meetings with private companies and municipal officials in Istanbul.
| Afternoon: 1-1 Business Matchmaking Meetings with private companies and municipal officials in Istanbul.
| Industry Reception.
Friday, September 30, 2016 | Morning: 1-1 Business Matchmaking Meetings with Partnership Posts and Public and Private Sector representatives from these countries.
| Noon: program ends.

Web site: Please visit our official mission Web site for more information: http://www.export.gov/trademissions/.

Participation Requirements

All parties interested in participating in the trade mission must complete and submit an application package for consideration by the Department of Commerce. All applicants will be evaluated on their ability to meet certain conditions and best satisfy the selection criteria as outlined below. A minimum of 15 and maximum of 25 companies will be selected to participate in the mission.

Fees and Expenses

After a company or organization has been selected to participate on the mission, a payment to the Department of Commerce in the form of a participation fee is required. The participation fee for the Trade Mission will be $3700 for a small or medium-sized firm (SME), and $4700 for large firms. The fee for each additional firm representative (large firm or SME/trade organization) is $750. Expenses for travel, lodging, meals, and incidentals will be the responsibility of each mission participant. Delegation members will be able to take advantage of U.S. Embassy rates for hotel rooms.

Application

All interested firms and associations may register via the following link: http://emenuapps.ita.doc.gov/ePublic/TM/6R0R.

Exclusions

The mission fee does not include any personal travel expenses such as lodging, most meals, local ground transportation (except for transportation to and from meetings, and airport transfers during the mission), and air transportation. Participants will, however, be able to take advantage of U.S. Government rates for hotel rooms. Electronic visas are required to participate on the mission, which are easily obtainable online. Applying for and obtaining such visas will be the responsibility of the mission participant. Government fees and processing expenses to obtain such visas are not included in the participation fee. However, the Department of Commerce will provide instructions to each participant on the procedures required to obtain necessary business visas.

Timeline for Recruitment and Applications

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows.

Recruitment for the mission will begin immediately and conclude no later than July 29, 2016. The U.S. Department of Commerce will review applications and make selection decisions on a comparative basis starting on June 24, 2016 until the maximum number of participants is selected. Applications received after July 29, 2016, will be considered only if space and scheduling constraints permit.

Conditions for Participation

Targeted mission participants are U.S. companies providing material/equipment, technology and services to any of the four transportation industries, air, rail, land, and marine that have an interest in learning more about the Turkish and regional markets. Target sectors holding high potential for U.S exporters/contractors include: Material/equipment/technology/services providers in the transportation industry, including airports.

Certification of products and/or services being manufactured or produced in the United States or if manufactured/produced outside of the United States, the product/service is marketed under the name of a U.S. firm and have U.S. content representing at least 51 percent of the value of the finished good or service.

The following criteria will be evaluated in selecting participants:

• Suitability of a firm's or service provider's products or services to these markets.

• Firm's or service provider's potential for business in the markets, including likelihood of exports resulting from the mission.

• Consistency of the firm's or service provider's goals and objectives with the stated scope of the mission.

Referrals from political organizations and any documents containing references to partisan political activities (including political contributions) will be removed from an applicant's submission and not considered during the selection process.

FOR FURTHER INFORMATION CONTACT: Mr. Kent Campbell, International Trade Specialist, Office of Trade Promotion Programs, U.S. Department of Commerce, Washington, DC 20230, Tel: 202-482-7426, Fax: 202-482-9000, Kent.Campbell@trade.gov.

Frank Spector,
Acting Director, Trade Missions Program.

[FR Doc. 2015-31141 Filed 12-9-15; 8:45 am]

BILLING CODE 3510-DR-P